EXECUTIVE OFFICE OF THE PRESIDENT

Office of National Drug Control Policy

Notification of a Public Meeting of the President's Commission on Combating Drug Addiction and the Opioid Crisis (Commission)

AGENCY: Office of National Drug Control Policy (ONDCP), Executive Office of the President.

ACTION: Notice of meeting.

SUMMARY: ONDCP announces the third meeting of the President's Commission on Combating Drug Addiction and the Opioid Crisis to advance the Commission's work on drug issues and the opioid crisis per Executive Order 13784. The meeting will consist of statements to the Commission from invited government, nonprofit, and business organizations regarding Innovative Pain Management and Prevention Measures for Diversion followed by discussion of the issues raised.

DATES: The Commission meeting will be held on Wednesday September 27, 2017 from 12:30 p.m. until approximately 2:30 p.m. (Eastern Time).

ADDRESSES: The meeting will be held at the Eisenhower Executive Office Building, Room 350, in the Executive Office of the President in Washington, DC. It will be open to the public through livestreaming on https://www.whitehouse.gov/live.

FOR FURTHER INFORMATION CONTACT: General information concerning the Commission and its meetings can be found on ONDCP's Web site at https://www.whitehouse.gov/ondcp/presidents-commission. Any member of the public who wishes to obtain information about the Commission or its meetings that is not already on ONDCP's Web site or who wishes to submit written comments for the Commission's consideration may contact Michael Passante, Designated Federal Officer (DFO) via email at commission@ondcp.eop.gov or telephone at (202) 395-6709. Please note that ONDCP may post such written comments publicly on our Web site, including names and contact information that are submitted. There will not be oral comments from the public at the meeting. Requests to accommodate disabilities with respect to livestreaming or otherwise should also be sent to that email address, preferably at least 10 days prior to the meeting to allow time for processing.

SUPPLEMENTARY INFORMATION: The Commission was established in accordance with E.O. 13784 of March 29, 2017, the Commission's charter, and the provisions of the Federal Advisory Committee Act (FACA), as amended, 5 U.S.C. App. 2, to obtain advice and recommendations for the President regarding drug issues. The Executive Order, charter, and information on the Members of the Commission are available on ONDCP's Web site. The Commission will function solely as an advisory body and will make recommendations regarding policies and practices for combating drug addiction with particular focus on the current opioid crisis in the United States. The Commission's final report is due October 1, 2017 unless there is an extension. Per E.O. 13784, the Commission shall:

a. Identify and describe the existing Federal funding used to combat drug addiction and the opioid crisis;

b. assess the availability and accessibility of drug addiction treatment services and overdose reversal throughout the country and identify areas that are underserved;

c. identify and report on best practices for addiction prevention, including healthcare provider education and evaluation of prescription practices, collaboration between State and Federal officials, and the use and effectiveness of State prescription drug monitoring programs;

d. review the literature evaluating the effectiveness of educational messages for youth and adults with respect to prescription and illicit opioids;

e. identify and evaluate existing Federal programs to prevent and treat drug addiction for their scope and effectiveness, and make recommendations for improving these programs; and

f. make recommendations to the President for improving the Federal response to drug addiction and the opioid crisis.

Dated: September 6, 2017.
Michael Passante,
Deputy General Counsel, Designated Federal Officer.

[FR Doc. 2017-19186 Filed 9-8-17; 8:45 am]

BILLING CODE 3280-F5-P